DEPARTMENT OF HEALTH AND HUMAN SERVICES

Centers for Disease Control and Prevention

[60-Day-10-10CW]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Translation and Dissemination of Promising Community Interventions for Preventing Obesity—New—Division of Nutrition, Physical Activity and Obesity (DNPAO), National Center for Chronic Disease Prevention and Health Promotion (NCCDPHP), Centers for Disease Control and Prevention (CDC).

Background and Brief Description

The need for prevention and reduction of overweight and obesity is compelling. In the U.S., 65% of adults are overweight or obese (obesity is defined as having a body mass index of 30 or more). Obesity contributes to chronic conditions such as hypertension, Type 2 diabetes, stroke, coronary heart disease, and osteoarthritis. Beyond the human costs, economic costs are extreme and are climbing. One estimate is that medical expenses related to this epidemic accounted for 9.1% of total U.S. medical expenditures in 1998, and the U.S. Surgeon General has estimated that direct and indirect costs related to obesity totaled $117 billion in 2000. Healthy People 2010 established goals for obesity reduction, which included targets of weight reduction of 15% for adults and 5% for children and youth.

Targeting communities at risk of overweight and obesity is an essential step toward realizing the goal of reversing current trends in obesity. Community-based programs to reduce risk of heart disease provide some models; however, outcomes vary and are affected by several confounding conditions. A report on prevention of childhood obesity, prepared by the Institute of Medicine in 2007, concluded that there are insufficient studies to generate recommendations for best practices in obesity prevention. Instead, the report compiles promising practices, including those set in communities.

CDC plans to apply methodology recommended by the CDC Task Force on Community Preventive Services to improve the translation and dissemination of promising practices into community-based obesity prevention programs. Information necessary to this purpose will be collected from the general public by a contractor. Information will be collected concerning respondents' knowledge, attitudes, and beliefs about obesity and physical activity; the need for community leaders to encourage healthier diets and more physical activity; and opportunities for leveraging current community efforts.

Two hundred fifty respondents will be recruited to participate in four on-line, small-group discussions over a period of about one month. The discussions will utilize Voice over Internet Protocol technology and will be facilitated by a moderator. Each discussion will last one hour. In preparation for the initial discussion, respondents will receive a confirmation e-mail and will be asked to review a guide to on-line discussion groups. In addition, discussion group participants will be asked to review a set of briefing materials prior to the first on-line group meeting.

Information will also be collected through an on-line questionnaire administered on two occasions. The questionnaire is designed to measure the relative importance of various proposals for policy and environmental change, and whether change has occurred in perceptions of roles and responsibilities for obesity prevention. The questionnaire will be administered to the 250 discussion group participants before the initial discussion group meeting (“pre-test”), and again after all four discussion groups have been completed (“post-test”).

Finally, the on-line questionnaire will be administered to a comparison group of 700 respondents. The comparison group will complete the questionnaire on two occasions; however, this group will not participate in the on-line discussions or review the briefing materials.

The information collection will be used to identify key issues for community obesity prevention programs, to refine promising obesity prevention practices for targeted communities, and to facilitate the dissemination of promising practices for obesity prevention. There are no costs to respondents other than their time.

Estimated Annualized Burden Hours
Type of respondents | Form name | Number of respondents | Number of responses per respondent | Average burden per response (in hours) | Total burden (in hours)
General Public | Discussion Group Moderator's Guide | 250 | 4 | 1 | 1,000
| Confirmation e-mail with Guide to On-Line Discussions | 250 | 1 | 10/60 | 42
| Briefing Materials | 250 | 1 | 10/60 | 42
| On-Line Questionnaire | 950 | 2 | 30/60 | 950
Total |  |  |  |  | 2,034

Date: May 4, 2010.
Maryam I. Daneshvar,
Acting Reports Clearance Officer, Centers for Disease Control and Prevention.

[FR Doc. 2010-11060 Filed 5-7-10; 8:45 am]

BILLING CODE 4163-18-P